DEPARTMENT OF HEALTH AND HUMAN SERVICES

Indian Health Service

Nursing Recruitment Program for American Indians/Alaska Natives

AGENCY: Indian Health Services (IHS), HHS.

ACTION: Notice of availability of funds for the Nursing Recruitment Program for American Indian/Alaska Natives (AI/AN).

SUMMARY: The IHS announces that competitive grant applications are now being accepted for the Nursing Education Program for AI/AN authorized by section 112 of the Indian Health Care Improvement Act Public Law 94-437, as amended. There will be only one funding cycle during Fiscal Year (FY) 2003. This program is described at 93.970 in the Catalog of Federal Domestic Assistance. Costs will be determined in accordance with applicable OMB Circulars and 45 CFR Part 74 or 45 CFR Part 92 (as applicable). Executive Order 12372 requiring intergovernmental review does not apply to this program. This program is not subject to the Public Health System Reporting Requirements.

The Public Health Service (PHS) is committed to achieving the health promotion and disease prevention objectives of Healthy People 2010, a PHS-led activity for setting priority areas. This program announcement is related to the priority area of Educational and Community-based programs. You may obtain the objectives from the latest Healthy People 2010, Review. A copy may be obtained by calling the national Center for Health Statistics, telephone (301) 436-8500.

Smoke Free Workplace

The PHS strongly encourages all grant recipients to provide a smoke-free workplace and promote the non-use of all tobacco products. Public Law 103-227, the Pro-Children Act of 1994, prohibits smoking in certain facilities that receive Federal funds in which education, library, day care, health care, and early childhood development services are provided to children.

DATES: Application Receipt Date: An original and two copies of the completed grant application must be submitted, with all required documents, to the grants Management Branch, Division of Acquisitions and Grants Operations, 801 Thompson Avenue, Rockville, MD 20852, by close of business (c.o.b.) June 17, 2003. COB means 5 p.m. Eastern Daylight Time. Applications shall be considered as meeting the deadline if they are either: (1) received on or before the deadline with hand carried applications received by close of business 5 p.m.; or (2) postmarked on or before the deadline date and received in time to be reviewed along with all other timely applications. A legibly dated receipt from a commercial carrier or the U.S. Postal Service will be accepted in lieu of a postmark. Private metered postmarks will not be accepted as proof of timely mailing. Late applications will be returned to the applicant and will not be considered for funding.

Additional Dates

(a) Application Review Completed By: July 26, 2003.

(b) Applicants Notified of Results (approved, approved unfunded, or disapproved): July 31, 2003.

(c) Anticipated Start Date: August 1, 2003.

FOR FURTHER INFORMATION CONTACT: For program information, contact Celissa G. Stephens, MSN, Acting Director, Division of Nursing Services, Office of Clinical and Preventative Services, Indian Health Service, 801 Thompson Avenue, Reyes Building, Suite 300, Rockville, MD 20852, (301) 443-1840. For grants information, contact Ms. Martha Redhouse, Grants Management Specialist, grants Management Branch, Division of Acquisition and Grants Management, Indian Health Service, 801 Thompson Avenue, Suite 120, Rockville, MD 20852, (301) 443-5204. (The telephone numbers are not toll-free.)

SUPPLEMENTARY INFORMATION: This announcement provides information on the general program purpose and objectives, programmatic priorities, eligibility requirements, funding availability, application process, required documentation, review process, and review criteria.

(a) General Program Purpose: To increase the number of nurses, nurse practitioners, nurse anesthetists, and nurse midwives who deliver health care service to AI/AN.

(b) Eligibility and Preference: The following organizations are eligible: (1) Public or private schools of nursing; (2) Tribally controlled community colleges and Tribally controlled posts-secondary vocational institutions (as defined in section 239h (2) of Title 20); and (3) nurse midwife programs, and nurse practitioner programs, that are provided by public or private institutions, for the purpose of increasing the number of nurse midwives, nurse practitioners, and nurses who deliver care to AI/AN's.

Preference will be given to programs which: (1) Provide a preference to AI/AN; (2) programs that train nurse midwives and nurse practitioners; (3) programs that are interdisciplinary; and (4) programs that are conducted in cooperation with the center for gifted and talented Indian students established under section 2624(a) of this Title 1616e(d). If an eligible organization claims preference in order to be given priority, the organization must submit verifying documentation.

(c) Program Priorities: All complete, eligible applications will be considered. If more than one application is received from an IHS Area only one award will be made to that particular area providing a MSN, BSN, ADN or LPN program.

Priority I—At least one project to a public or private college or university, school of nursing, which provides MSN (nurse midwife, nurse practitioner, or nurse anesthetist) degrees not to exceed $350,000 per year up to project period of five years.

Priority II—At least three projects to a public or private college or university, school of nursing which provides BSN or ADN degrees, not to exceed $400,000 per year up to a project period of five years.

Priority III—At least one project to a Tribally controlled community college, school of nursing, which provides LPN training, not to exceed $200,000 per year up to a project period of five years.

(d) Program Objectives: The primary objectives of a grant awarded under this program are to: (1) Recruit and train AI/AN individuals to be nurses (MSN, BSN, ADN, LPN); (2) provide scholarships to individuals enrolled in schools of nursing to pay tuition, books, fees, and stipends for living expenses; (3) provide a program that encourages nurses (MSN, BSN, ADN or LPN), to provide or continue to provide, health care services to AI/AN; and (4) provide a program that increases the skills of and provides continuing education to nurses (MSN, BSN, ADN, LPN).

Each proposal must respond to at least two of the above four objectives.

(e) Program Activities Considered for Support: The grant program must be developed to locate and recruit students with potential for nursing and provide support services to students who are recruited. Support services may include providing career counseling and academic advice; assistant students to identify academic deficiencies and to develop plans to correct those deficiencies; assisting students to locate financial aid; monitoring students to identify possible problems; assisting with the determination of need for and location of tutorial services; and other related activities which help to retain students in school.

(f) Required Affiliation: The applicant must submit documentation that it is an accredited school of nursing, or a Tribally controlled community college. The term “accredited” when applied to any program of nurse education means a program accredited or assured accreditation by a recognized body or bodies, or by a State agency, approved for such purpose by the Secretary of Education and when applied to a school, college or university (or a unit thereof) which is accredited by a recognized body or bodies, or a State agency, approved for such purpose by the Secretary of Education. In order to establish the connection between the program of the applicant and a health care facility that primarily serves Indians the Secretary requires and information regarding the accessibility of the application to target Indian communities or tribes, including evidence of past or potential cooperation between the application of such communities or Tribes. When the target population of a proposed project includes a particular Indian Tribe or Tribes, an official document, i.e., a letter of support or tribal resolution, must be submitted indicating that the Tribe or Tribes will cooperate with the applicant.

Related objectives of the program are the proper administration of a project, selection of scholarship recipients by fair and consistent means, monitoring of recipients to assure compliance with scholarship requirements and eventual job placement within the service area of the grantee to fulfill service obligation. A student must serve one year for every year funded. One of the monitoring objectives in assuring satisfactory academic performance which is defined as: (1) A 2.50 grade point average (GPA); and (2) the GPA required by the college/university.

(g) Fund Availability: Approximately $1.7 million is available per year, for a five year cycle. The anticipated start date for selected projects will be August 1, 2003. A total of five projects will be awarded with funding for succeeding years based on satisfactory level of performance; the availability of appropriation in future years; and the continuing need of IHS for the project. Funding will be available to fund only one project (MSN, BSN, ADN, LPN) grant within an IHS Area.

(h) Period of Support: Projects will be funded with annual budget periods and project periods of five years. The second, third, fourth and fifth year funding will be based on the following: (1) Satisfactory progress of the grantee; (2) availability of funds; and (3) continuing need of the IHS or the program.

(i) Application Process:

(1) An IHS Recruitment Grant Application Kit may be obtained from the Grants Management Branch, Division of Acquisition and Grants Management, Indian Health Service, 801 Thompson Avenue, Reyes Building, Rockville, MD 20852, (301) 443-5204. This kit includes Standard Form PHS 5161-1 (Rev. 7/00); Standard Forms 424, 424A, and 424B (Rev. 7/97); Application Receipt Card—PHS 3038-1 (Rev. 4/97); instructions for preparing the program narrative; IHS Application Check List; a copy of the Federal Register Notice for Nursing Recruitment Grants; and a copy of Section 112 of the Act.

(2) The application must be signed and submitted by an individual authorized to act for the applicant and to assume on behalf of the applicant the obligations imposed by the terms and conditions of any award.

(3) The available funding level is inclusive of both direct and indirect costs. Because this project is for a training grant, the Department of Health and Human Services' policy limiting reimbursement of indirect cost to 8 percent of total direct costs (exclusive of trainee costs and expenditures for equipment) is applicable. This limitation applies to all institutions of higher education other than agencies of State and local government.

(4) Each application will be reviewed by the Grants Management Branch for eligibility, compliance with the announcement, and completeness. All acceptable applications will be subject to a competitive objective review and evaluation. An unacceptable application will be returned to the applicant without further consideration.

(5) Applicants will be notified by July 31, 2003, of their status as approved, approved unfunded, or disapproved.

(6) The project period may not exceed five years. Applications must include Narrative and Budget information for the entire anticipated project period. The application must comply with the following format:

(a) Table of Contents (one page)

(b) Narrative (up to five pages)

(c) Budget and Justification

(d) Appendix (Tribal resolution, verification of accreditation, résumé's and position descriptions of staff who will administer the program, an organizational chart of placement of the administrative staff within the Tribes or Tribal organization, and supporting documentation.

(j) Narrative: The following instructions for the preparation of the narrative are to be used in lieu of the instructions on pages 21-23 of form PHS 5161-1. The narrative section of the application must include: (1) Description of administration of the grant; (2) description of applicant's previous experience with nursing recruitment grants; (3) methodology for recruiting, selecting, paying, and monitoring students; (4) number of nurses to be funded; (5) justification of need; and (6) description of proposed payback services by graduates. The narrative section should be written in a manner that is clear to outside reviewers unfamiliar with activities of the applicant. It should be well organized, succinct, and contain all information necessary for reviewers to understand the project fully. The narrative may not exceed five single-spaced pages in length, excluding attachments, budget, and required documentation. Pages must be numbered. Provide a narrative for year two, three, four, and five of the project; however, provide information only for those narrative items which you anticipate will change from year to year.

(a) Administration of the Grant

(1) Describe the organization submitting the application, include an organizational chart in appendix showing the grant's placement within the organization.

(2) Describe who will be responsible for administering the grant project. In the appendix, provide biographical sketches (resumes) and position descriptions for the program director and key personnel as described on pages 21-23 of form 5161-1.

(b) Prior Experience

Describe any previous experience the organization has had with nursing recruitment grant programs including information on the types of grants and funding.

(c) Methodology

(1) Describes how students will be recruited to assure maximum distribution of information about the availability of the scholarships.

(2) Describe the process by which scholarship recipients will be selected to assure fairness and consistent treatment.

(3) List, and if necessary, explain the criteria to be used in selecting recipients.

(4) Describe how and when students will be paid.

(5) Describe the process of monitoring to assure acceptable academic standing (refer to Section D—PROGRAMMATIC OBJECTIVES).

(d) Types of Scholarships

Provide information on the types and numbers of nursing scholarships to be funded.

(e) Service Payback

(1) A student must service one year for every year funded.

(2) The training institution must provide information on each scholarship recipient funded per semester, and academic year to the Section 112 Indian Health Service (IHS) Database.

(3) Indicate a plan for tracking placement of graduates and retention of nursing students in the nursing program.

(f) Evaluation

(1) Provide a narrative addressing how the conduct of the program will be evaluated. Define the procedures for determining whether the proposed methodology has been successful in announcing and carrying out the project. An evaluation should be conducted annually.

(2) Provide a narrative addressing how results of the program will be evaluated to determine the success of the Tribal scholarship program. This should be done at the end of year four to assist the IHS in determining the effectiveness of the program in meeting Tribal needs for nurses.

(3) Provide potential effectiveness of the proposed project in carrying out the purposes of Section 112, with special emphasis on the objectives and methodology portion of the application. This includes relevance of project objectives to grant program objectives; appropriateness and soundness of the procedures for identifying, recruiting, and retaining target population(s); and feasibility of project within proposed resources in time frames.

(4) Demonstrate capability of the applicant to successfully conduct the project, including organizational and scholarly commitment to the recruitment, education, and retention of students.

(5) The submission of verifying documentation when an applicant claims preference in order to be given priority.

Preference is given for programs which: (1) Provide a preference to AI/AN; (2) train nurse midwives or nurse practitioners; (3) are interdisciplinary; or (4) are conducted in cooperation with a center for gifted and talented AI/AN students established under section 5324 (a) of the Indian Education Act of 1988. Consideration will be given to the relationship of project objectives to Indian Health manpower's deficiencies, indicating the number of potential AI/An students to be contacted and recruited as well as potential cost per student recruited; (6) those projects that have the potential to serve a greater number of AI/AN will be given first consideration; (7) the soundness of the fiscal plan for assuring effective utilization of grant funds; and (8) the completeness and responsiveness of the application.

(k) Budget: An itemized estimate of costs must be provided on Standard Form 424A. All applications shall include funding requirements for the second, third, fourth and fifth budget periods. Project funding will be based on an average of $18,500 per scholarship. Projects must be for a minimum of five scholarship per academic year for all nursing programs.

Required Documentation

(a) Tribal Resolution

A resolution from the Tribal government specifically supporting this grant project must accompany the application submission. Resolution shall address the Tribal government's commitment to placement of program graduates. Applications by Tribal organizations will not require resolution(s) if the current Tribal resolution(s) under which they operate would encompass the proposed grant activities. A statement of proof of a copy of the current operational resolution must accompany the application. If a resolution or a statement is not submitted, the application will be considered incomplete and will be returned without consideration.

(1) Review Process and Criteria: Applications that meet eligibility requirements, are complete, and conform to this announcement will be reviewed by an Ad Hoc Review Committee. Applications will be reviewed against established criteria. The Ad Hoc Review Committee will assign a numerical score to each application, which will be used to rank applications. The Program Director will consider geographic location in order to limit only one grant within an IHS Area.

Applications will be evaluated against the following criteria and weights:

Weights—Criteria

40%—Methodology—Is the applicant's plan for conducting the project sound and effective? Has the applicant fully addressed the process of recruiting and selecting students? Will this process assure fair and consistent treatment of students? Is the monitoring process adequate to assure that students are complying with requirements? Will the process for placing, tracking, and retaining graduates be adequate to assure compliance with terms of the service obligation contract?

30%—Demonstrated capacity of the applicant to successfully conduct the project (accreditation). Is the applicant capable of successfully conducting the project from a technical and business standpoint? Are the qualification of the key personnel appropriate and adequate to carry out the projects? Is the applicant fiscal plan sound for use of both Federal and Non-federal funds?

15%—Need—Is the need for the project justified? Is there supporting documentation for conducting recruiting activities within the applicant's area?

10%—Evaluation—Does the applicant present a sound annual evaluation plan capable of determining success in announcing and carrying out the project? Does the applicant provide an evaluation plan for determining the success of the program within the applicant's organization at the end of the project period?

5%—Prior experience with similar programs.

(m) Results of the Review: Successful applicants will be notified through official Notice of Grant Award (NGA) documents. The NGA will state the amount of the Federal funds awarded, the terms and conditions of the grant award, the effective date of the award, the project period, and the budget period.

Dated: April 22, 2003.
Charles W. Grim,
Assistant Surgeon General, Interim Director, Indian Health Service.

[FR Doc. 03-11395 Filed 5-7-03; 8:45 am]

BILLING CODE 4160-16-M